DEPARTMENT OF TRANSPORTATION

Coast Guard

33 CFR Part 165

[CGD09-02-001]

RIN 2115-AA97

Security Zones; Captain of the Port Chicago Zone, Lake Michigan

AGENCY: Coast Guard, DOT.

ACTION: Notice of proposed rulemaking.

SUMMARY: The Coast Guard proposes to establish permanent security zones on the navigable waters of the Des Plaines River, the Kankakee River, the Rock River, and Lake Michigan in the Captain of the Port Zone Chicago. These security zones are necessary to protect the nuclear power plants, water intake cribs, and Navy Pier from possible sabotage or other subversive acts, accidents, or possible acts of terrorism. These zones are intended to restrict vessel traffic from portions of the Des Plaines River, Rock River, and Lake Michigan.

DATES: Comments and related material must reach the Coast Guard on or before June 21, 2002.

ADDRESSES: You may mail comments and related material to U.S. Coast Guard Marine Safety Office Chicago, 215 W. 83rd Street, Burr Ridge, IL 60521. Marine Safety Office Chicago maintains the public docket for this rulemaking. Comments and material received from the public, as well as documents indicated in this preamble as being available in the docket, will become part of this docket and will be available for inspection or copying at Marine Safety Office Chicago between 7:30 a.m. and 4 p.m., Monday through Friday, except Federal holidays.

FOR FURTHER INFORMATION CONTACT: Lieutenant Commander Al Echols, U.S. Coast Guard Marine Safety Office Chicago, (630) 986-2175.

SUPPLEMENTARY INFORMATION:

Request for Comments

We encourage you to participate in this rulemaking by submitting comments and related material. If you do so, please include your name and address, identify the docket number for this rulemaking (CGD09-02-001), indicate the specific section of this document to which each comment applies, and give the reason for each comment. Please submit all comments and related material in an unbound format, no larger than 8½ by 11 inches, suitable for copying. If you would like to know they reached us, please enclose a stamped, self-addressed postcard or envelope. We will consider all comments and material received during the comment period. We may change this proposed rule in view of them.

Public Meeting

We do not now plan to hold a public meeting. But you may submit a request for a meeting by writing to U.S. Coast Guard Marine Safety Office Chicago at the address under ADDRESSES explaining why one would be beneficial. If we determine that one would aid this rulemaking, we will hold one at a time and place announced by a later notice in the Federal Register.

Background and Purpose

On September 11, 2001, the United States was the target of coordinated attacks by international terrorists resulting in catastrophic loss of life, the destruction of the World Trade Center, and significant damage to the Pentagon. National security and intelligence officials warn that future terrorists attacks are likely.

We propose to establish 10 permanent security zones for the following facilities: (1) Jardine Water Filtration Plant; (2) Navy Pier; (3) Dresden Nuclear Power Plant Water Intake; (4) Donald C. Cook Nuclear Power Plant; (5) Palisades Nuclear Power Plant; (6) Byron Nuclear Power Plant; (7) Zion Nuclear Power Plant; (8) 68th Street Water Intake Crib; (9) Dever Water Intake Crib; and (10) 79th Street Water Filtration Plant.

These proposed security zones are necessary to protect the public, facilities, and the surrounding area from possible sabotage or other subversive acts. All persons other than those approved by the Captain of the Port Chicago, or his authorized representative, are prohibited from entering or moving within the zones with those exceptions described below. The Captain of the Port Chicago may be contacted via VHF Channel 16. The Captain of the Port Chicago's on-scene representative will be the patrol commander. In addition to publication in the Federal Register, the public will be made aware of the existence of these security zones, their exact locations, and the restrictions involved via Broadcast Notice to Mariners.

Discussion of Proposed Rule

Following the catastrophic nature and extent of damage realized from the aircraft flown into the World Trade Center towers, this rulemaking is necessary to protect the national security interests of the United States from future strikes against public and governmental targets. The security zones protecting the greater Chicago area water intake systems (Jardine and 79th Street water filtration plants, and the Dever and 68th Street water intake cribs) are necessary to protect the drinking water supply for Chicago and its suburbs. This system is the sole source of drinking water for more than 5 million people. The security zones protecting the nuclear power plants are necessary to safeguard the supply of electricity along Lake Michigan and to protect the public from possible exposure to the radioactive materials that could be released into the environment as a result of a terrorist attack on those facilities.

On December 17, 2001, the Coast Guard issued a temporary rule establishing a security zone around the Navy Pier (66 FR 66749, December 27, 2001). In addition, on March 25, 2002,we issued a temporary rule establishing nine security zones in or near Lake Michigan (67 FR 19676, April 23, 2002).

Regulatory Evaluation

This proposed rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Transportation (DOT)(44 FR 11040, February 26, l979).

We expect the economic impact of this proposed rule to be so minimal that a full Regulatory Evaluation under paragraph 10(e) of the regulatory policies and procedures of DOT is unnecessary.

Small Entities

Under the Regulatory Flexibility Act (5 U.S.C. 601-612), we have considered whether this proposed rule would have a significant economic impact on a substantial number of small entities. The term “small entities” comprises small businesses, not-for-profit organizations that are independently owned and operated and are not dominant in their fields, and governmental jurisdictions with populations of less than 50,000.

The Coast Guard certifies under 5 U.S.C. 605(b) that this proposed rule would not have a significant economic impact on a substantial number of small entities. This security zone will not have a significant economic impact on a substantial number of small entities for the following reasons.

Recreational boaters in portions of the Des Plaines River will be impacted, however recreational traffic in those areas is historically quite low. Commercial river traffic, expected to consist of towing vessels and barges transiting through the security zones, will be unimpeded.

The Captain of the Port Chicago will permit those U. S. Coast Guard certificated passenger vessels that regularly, and as part of their normal route, load and unload passengers at Navy Pier to operate in the zone. However, should the Captain of the Port Chicago determine it is appropriate, he will require even those U. S. Coast Guard certificated passenger vessels which normally load and unload passengers at Navy Pier to request permission before leaving or entering the security zones. The Captain of the Port Chicago will notify these vessels via Broadcast Notice to Mariners if they must notify the Coast Guard before transiting the security zone. This proposed rule will not obstruct the regular flow of traffic and will allow vessel traffic to pass around the security zone.

If you think that your business, organization, or governmental jurisdiction qualifies as a small entity and that this rule would have a significant economic impact on it, please submit a comment (see ADDRESSES) explaining why you think it qualifies and how and to what degree this rule would economically affect it.

Assistance for Small Entities

Under section 213(a) of the Small Business Regulatory Enforcement Fairness Act of 1996 (Public Law 104-121), we want to assist small entities in understanding this proposed rule so that they can better evaluate its effects on them and participate in the rulemaking. If the rule would affect your small business, organization, or governmental jurisdiction and you have questions concerning its provisions or options for compliance, please contact the office listed in ADDRESSES in this preamble. Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This proposed rule would call for no new collection of information under the Paperwork Reduction Act of 1995 (44 U.S.C. 3501-3520.).

Federalism

We have analyzed this proposed rule under Executive Order 13132, Federalism, and have determined that this rule does not have implications for federalism under that Order.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this proposed rule would not result in such an expenditure, we do discuss the effects of this rule elsewhere in this preamble.

Taking of Private Property

This proposed rule would not effect a taking of private property or otherwise have taking implications under Executive Order 12630, Governmental Actions and Interference with Constitutionally Protected Property Rights.

Civil Justice Reform

This proposed rule meets applicable standards in sections 3(a) and 3(b)(2) of Executive Order 12988, Civil Justice Reform, to minimize litigation, eliminate ambiguity, and reduce burden.

Protection of Children

We have analyzed this proposed rule under Executive Order 13045, Protection of Children from Environmental Health Risks and Safety Risks. This rule is not an economically significant rule and would not create an environmental risk to health or risk to safety that might disproportionately affect children.

Indian Tribal Governments

This proposed rule does not have tribal implications under Executive Order 13175, Consultation and Coordination with Indian Tribal Governments, because it would not have a substantial direct effect on one or more Indian tribes, on the relationship between the Federal Government and Indian tribes, or on the distribution of power and responsibilities between the Federal Government and Indian tribes.

Energy Effects

We have analyzed this proposed rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. It has not been designated by the Administrator of the Office of Information and Regulatory Affairs as a significant energy action.

Environment

We have considered the environmental impact of this proposed rule and concluded that, under figure 2-1, paragraph (34) (g), of Commandant Instruction M16475.lD, this rule is categorically excluded from further environmental documentation. A “Categorical Exclusion Determination” is available in the docket for inspection or copying where indicated under ADDRESSES.

List of Subjects in 33 CFR Part 165

Harbors, Marine safety, Navigation (water), Reporting and recordkeeping requirements, Security measures, Waterways.

For the reasons discussed in the preamble, the Coast Guard proposes to amend 33 CFR part 165 as follows:

PART 165—REGULATED NAVIGATION AREAS AND LIMITED ACCESS AREAS

1. The authority citation for part 165 continues to read as follows:

Authority: 33 U.S.C. 1231; 50 U.S.C. 191, 33 CFR 1.05-1(g), 6.04-1, 6.04-6, 160.5; 49 CFR 1.46.

§ 165.T09-002 [Removed]

2. Remove § 165.T09-002.

3. Add § 165.908 to read as follows:

§ 165.908 Security Zones; Captain of the Port Chicago Zone, Lake Michigan.

(a) Security zones. The following areas, defined by coordinates based upon North American Datum 1983, are security zones:

(1) Jardine Water Filtration Plant.

(i) Location. All waters between the Navy Pier and the Jardine Water Filtration Plant shoreward of a line drawn from the southeast corner of the Jardine Water Filtration Plant at 41° 53′ 36″ N, 87° 36′ 10″ W, to the northeast corner of the Navy Pier at 41° 53′ 32″ N, 87° 35′ 55″ W.

(ii) Regulations. The Captain of the Port Chicago will normally permit those U. S. Coast Guard certificated passenger vessels that normally load and unload passengers at Navy Pier to operate in the zone. However, should the Captain of the Port Chicago determine it is appropriate, he will require even those U. S. Coast Guard certificated passenger vessels which normally load and unload passengers at Navy Pier to request permission before leaving or entering the security zones. The Captain of the Port Chicago will notify these vessels via Broadcast Notice to Mariners if they must notify the Coast Guard before entering or transiting the security zone. As such, vessels who regularly operate within this zone are responsible for monitoring Broadcasts Notice to Mariners for the Chicago area. These broadcasts will be made by U.S. Coast Group Milwaukee.

(2) Navy Pier Southside.

(i) Location. All waters encompassed by a line commencing at the southeast corner of the Navy Pier at 41° 53′ 29″ N, 87° 35′ 55″ W, then continuing southwesterly to the eastern end of Dime Pier at 41° 53′ 23″ N, 87° 35′ 58″, then westerly along Dime Pier and continuing westerly until the northsouth pier face at 41° 53′ 23″ N, 87° 36′ 35″ W; then north to Navy Pier and east along Navy Pier continuing back to the point of orgin.

(ii) Regulations. The Captain of the Port Chicago will permit those U. S. Coast Guard certificated passenger vessels that normally load and unload passengers at Navy Pier to operate in the zone. However, should the Captain of the Port Chicago determine it is appropriate, he will require even those U. S. Coast Guard certificated passenger vessels which normally load and unload passengers at Navy Pier to request permission before leaving or entering the security zones. The Captain of the Port Chicago will notify these vessels via Broadcast Notice to Mariners if they must notify the Coast Guard before transiting the security zone. As such, vessels who regularly operate within this zone are responsible for monitoring Broadcasts Notice to Mariners for the Chicago area. These broadcasts will be made by U.S. Coast Group Milwaukee.

(3) Dresden Nuclear Power Plant. All waters of the Illinois River in the vicinity of Dresden Nuclear Power Plant encompassed by a line starting on the shoreline at 41° 23′ 45″ N, 88° 16′ 18″ W; then east to the shoreline at 41° 23′ 39″ N, 88° 16′ 09″ W; then following along the shoreline back to the beginning.

(4) Donald C. Cook Nuclear Power Plant. All waters of Lake Michigan around the Donald C. Cook Nuclear Power Plant encompassed by a line starting on the shoreline at 41° 58.656′ N, 86° 33.972′ W; then northwest to 41° 58.769′ N, 86° 34.525′ W; then southwest to 41° 58.589′ N, 86° 34.591′ W; then southeast to the shoreline at 41° 58.476′ N, 86° 34.038′ W; and following along the shoreline back to the beginning.

(5) Palisades Nuclear Power Plant. All waters of Lake Michigan around the Palisades Nuclear Power Plant within a line starting on the shoreline at 42° 19′ 02″ N, 86° 19′ 05″ W; then northwest to 42° 19′ 43″ N, 86° 19′ 52″ W; then north to 42° 20′ 10″ N, 86° 20′ 01″ W; then southeast back to the shoreline at 42° 19′ 26″ N, 86° 18′ 55″ W; then following along the shoreline back to the beginning.

(6) Byron Nuclear Power Plant. All waters of the Rock River encompassed by the arc of a circle with a 100-yard radius with its center in approximate position 42° 05′ 01″N, 89° 19′ 27″W.

(7) Zion Nuclear Power Plant. All waters of Lake Michigan encompassed by a line starting on the shoreline at 42° 26′ 36″ N, 87° 48′ 03″ W; then southeast to 42° 26′ 20″ N, 87° 47′ 35″ W; then northeast to 42° 26′ 53″ N, 87° 47′ 22″ W; then northwest to the shoreline at 42° 27′ 06″ N, 87° 48′ 00″ W; then following along the shoreline back to the beginning.

(8) 68th Street Water Intake Crib. All waters of Lake Michigan within the arc of a circle with a 100-yard radius of the 68th Street Crib with its center in approximate position 41° 47′ 10″ N, 87° 31′ 51″ W.

(9) Dever Water Intake Crib. All waters of Lake Michigan within the arc of a circle with a 100-yard radius of the Dever Crib with its center in approximate position 41° 54′ 55″ N, 87° 33′ 20″ W.

(10) 79th Street Water Intake Crib. All waters of Lake Michigan within the arc of a circle with a 100-yard radius of the 79th Street Water Filtration Plant with its center in the approximate position 41° 45′ 30″ N, 87° 32′ 32″ W.

(b) Regulations.

(1) Under § 165.33, entry into this zone is prohibited unless authorized by the Coast Guard Captain of the Port Chicago. Section 165.33 also contains other general requirements.

(2) All persons and vessels shall comply with the instruction of the Captain of the Port Chicago or the designated on-scene U.S. Coast Guard patrol personnel. On-scene patrol personnel include commissioned, warrant, and petty officers of the U.S. Coast Guard on board Coast Guard, Coast Guard Auxiliary, local, state, and federal law enforcement vessels. Emergency response vessels are authorized to move within the zone but must abide by the restrictions imposed by the Captain of the Port.

(3) Persons who would like to transit through a security zone in this section must contact the Captain of the Port at telephone number (630) 986-2175 or on VHF channel 16 (121.5 MHz) to seek permission to transit the area. If permission is granted, all persons and vessels shall comply with the instructions of the Captain of the Port or his or her designated representative.

(c) Authority. In addition to 33 U.S.C. 1231 and 50 U.S.C. 191, the authority for this section includes 33 U.S.C. 1226.

Dated: May 13, 2002.
R.E. Seebald,
Captain, U.S. Coast Guard, Captain of the Port, Chicago.

[FR Doc. 02-12734 Filed 5-21-02; 8:45 am]

BILLING CODE 4910-15-P